DEPARTMENT OF AGRICULTURE

Submission for OMB Review; Comment Request; Reinstatement

The Department of Agriculture has submitted the following information collection requirement(s) to OMB for review and reinstatement under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by August 10, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: SF-299: Application for Transportation, Utility Systems, Telecommunication and Facilities on Federal Lands and Property.

OMB Control Number: 0596-0249.

Summary of Collection: This information collection is used by the Forest Service to evaluate and ensure that authorized uses of National Forest System (NFS) lands are in the public interest and are compatible with the agency's mission. The information helps the agency identify environmental and social impacts of special uses for purposes of compliance with the National Environmental Policy Act (NEPA) and program administration. In addition, the agency uses the information to ascertain whether the land use fee being charged for special use authorizations is based on market value. The information is collected through application forms and terms and conditions in special use authorizations and operating plans. Ongoing uses must be monitored to ensure compliance with the terms of the corresponding authorizations. In certain situations, information from the authorization holder is the only way the Forest Service can verify compliance with the terms of an authorization.

Need and Use of the Information: The information collected is used to issue permits and leases, enforce compliance with agreements, and reports are generated to ensure fees are paid (Such as Recreation Residence Cabins) & to monitor growth of the Special Use Program, this helps with budget forecasting & program development.

Description of Respondents: Individuals or households.

Number of Respondents: 3,233.

Frequency of Responses: Annually.

Total Burden Hours: 25,864.

Levi S. Harrell,
Departmental Information Collection Clearance Officer.

[FR Doc. 2023-14574 Filed 7-10-23; 8:45 am]

BILLING CODE 3411-15-P